DEPARTMENT OF COMMERCE

National Oceanic and Atmospheric Administration

15 CFR Part 922

RIN 0648-AX34

Changes to the Florida Keys National Marine Sanctuary Regulations; Technical Corrections and Minor Substantive Changes

AGENCY: Office of National Marine Sanctuaries (ONMS), National Oceanic and Atmospheric Administration (NOAA), Department of Commerce (DOC).

ACTION: Correction; Extend public comment period.

SUMMARY: On December 19, 2008, NOAA published a proposed rule in the Federal Register that makes technical corrections and minor modifications to the Florida Keys National Marine Sanctuary (FKNMS) regulations. The preamble of that document contained an inaccurate reference to U.S. Coast Guard regulations, which was a basis for one of the proposed modifications. This document eliminates that reference and clarifies the rationale for making this regulation change. The ONMS is preparing an environmental assessment pursuant to the National Environmental Policy Act.

DATES: The public comment period on the proposed rule published at 73 FR 77557, December 19, 2008, is reopened. Comments will be accepted through March 26, 2009.

ADDRESSES: Comments may be submitted by any of the following methods:

• Federal e-Rulemaking Portal: http://www.regulations.gov. Submit electronic comments via the Federal e-Rulemaking Portal;

• Mail: David A. Score, Superintendent, Florida Keys National Marine Sanctuary, 33 East Quay Road, Key West, FL 33040.

• Instructions: All comments received are a part of the public record and will be generally posted to http://www.regulations.gov without change. All Personal Identifying Information (for example, name, address, etc.) voluntarily submitted by the commenter may be publicly accessible. Do not submit confidential business information or otherwise sensitive or protected information. NOAA will accept anonymous comments (enter N/A in the required fields if you wish to remain anonymous). Attachments to electronic comments will be accepted in Microsoft Word, Excel, Wordperfect, or Adobe PDF file formats only.

FOR FURTHER INFORMATION CONTACT: David A. Score, Superintendent, Florida Keys National Marine Sanctuary, 33 East Quay Road, Key West, FL 33040.

SUPPLEMENTARY INFORMATION:

Need for Correction

In the preamble of the proposed rule, NOAA incorrectly stated that the U.S. Coast Guard regulation Rule 27e specified a minimum distance of 100 yards between vessels and “divers down” flags. In fact, only the applicable Florida Statute specifies the 100-yard minimum distance requirement (Section 327.331 FS). In order to be consistent with the regulations issued by the State of Florida and consistent in both state and federal waters of the sanctuary, NOAA proposes to change our regulations from “100 feet” in 922.163 (a)(5)(iii)(C) to “100 yards.” Requiring a uniform minimum distance in both state and federal waters simplifies the sanctuary regulations, and therefore improves compliance for sanctuary users and enforcement of a single regulation. The regulation allows both diving and vessel operations to occur in relatively the same area without conflict. A consistent regulation also allows for better public education programs. NOAA is preparing an environmental assessment pursuant to the National Environmental Policy Act to analyze the impacts associated with this modification to the Florida Keys National Marine Sanctuary regulations.

Request for Comments

NOAA reopens the public comment period on the proposed rule to make technical corrections and amendments to the FKNMS regulations.

Daniel J. Basta,
Director, Office of National Marine Sanctuaries.

[FR Doc. E9-4569 Filed 3-4-09; 8:45 am]

BILLING CODE 3510-22-M